DEPARTMENT OF HOMELAND SECURITY

Coast Guard

33 CFR Part 117

[Docket No. USCG-2018-1053]

Drawbridge Operation Regulation; Lake Washington Ship Canal, Seattle, WA

AGENCY: Coast Guard, DHS.

ACTION: Notice of deviation from drawbridge regulation.

SUMMARY: The Coast Guard has issued a temporary deviation from the operating schedule that governs the Ballard Bridge, mile 1.1, the Fremont Bridge, mile 2.6, and the University Bridge, mile 4.3, all crossing the Lake Washington Ship Canal at Seattle, WA. The deviation is necessary to accommodate re-routed roadway traffic while the Alaskan Way Viaduct is closed. This deviation allows the subject bridges to remain in the closed-to-navigation position to allow congested roadway traffic to move easier.

DATES: This deviation is effective from 7 a.m. on January 11, 2019, to 7 p.m. on February 9, 2019.

ADDRESSES: The docket for this deviation, USCG-2018-1053 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Seattle Department of Transportation (SDOT), the owner of the impacted drawbridges, requested a temporary deviation from the operating schedule for the Ballard Bridge, mile 1.1, the Fremont Bridge, mile 2.6, and the University Bridge, mile 4.3, all crossing the Lake Washington Ship Canal at Seattle, WA, to facilitate morning and afternoon re-routed roadway traffic. Washington Department of Transportation is closing the Alaskan Way Viaduct forever, and have not finished building new ramp approaches to the new SR99 Tunnel into Seattle, WA. During the closure of the viaduct, SDOT will be re-routing roadway traffic into Seattle across the Lake Washington Ship Canal, and requested to extend the closure hours of the subject bridges. The Ballard Bridge provides a vertical clearance of 29 feet in the closed-to-navigation position; the Fremont Bridge provides a vertical clearance of 14 feet (31 feet of vertical clearance for the center 36 horizontal feet) in the closed-to-navigation position; the University Bridge provides a vertical clearance of 30 feet (45 feet at the center) in the closed-to-navigation position. Vertical clearances refer to the Mean Water Level of Lake Washington. The normal operating schedule for the three subject bridges is in 33 CFR 117.1051(d).

During this deviation period, the three subject bridge draws need not open per the following table for vessels of less than 1000 gross tons, unless the vessel has in tow a vessel of 1000 gross tones or more:

Bridge | Date | Time | Span position
Fremont | Jan 11, 2019 to Feb 9, 2019 | 7 a.m. to 10 a.m | Closed.
Fremont | Jan 11, 2019 to Feb 9, 2019 | 3:30 p.m. to 7 p.m | Closed.
Ballard | Jan 11, 2019 to Feb 9, 2019 | 7 a.m. to 10 a.m | Closed.
Ballard | Jan 11, 2019 to Feb 9, 2019 | 3:30 p.m. to 7 p.m | Closed.
University | Jan 11, 2019 to Feb 9, 2019 | 7 a.m. to 10 a.m | Closed.
University | Jan 11, 2019 to Feb 9, 2019 | 3:30 p.m. to 7 p.m | Closed.

Waterway usage on the Lake Washington Ship Canal range from commercial tug and barge to small pleasure craft. Vessels able to pass through the subject bridges in the closed-to-navigation position may do so at any time. All three bridges will not be able to open for emergencies, and there is no immediate alternate route for vessels to pass. The Coast Guard will also inform the users of the waterways through our Local and Broadcast Notices to Mariners of the change in operating schedule for the bridges so that vessel operators can arrange their transits to minimize any impact caused by the temporary deviation.

In accordance with 33 CFR 117.35(e), the three drawbridges must return to their regular operating schedules immediately at the end of the effective period of this temporary deviation. This deviation from the operating regulations is authorized under 33 CFR 117.35.

Dated: December 3, 2018.
Steven M. Fischer,
Bridge Chief Administrator, Thirteenth Coast Guard District.

[FR Doc. 2018-26976 Filed 12-12-18; 8:45 am]

BILLING CODE 9110-04-P